NATIONAL TRANSPORTATION SAFETY BOARD

Sunshine Act Meeting

Agenda

Time and Date: 9:30 a.m., Tuesday, July 25, 2017.

Place: NTSB Conference Center, 429 L'Enfant Plaza SW., Washington, DC 20594.

Status: The two items are open to the public.

Matters to be Considered:

56754 Highway-Railroad Grade Crossing Collision, Valhalla, New York, February 3, 2015

56821 Safety Study Report—Reducing Speeding-Related Crashes Involving Passenger Vehicles

News Media Contact: Telephone: (202) 314-6100.

The press and public may enter the NTSB Conference Center one hour prior to the meeting for set up and seating.

Individuals requesting specific accommodations should contact Rochelle McCallister at (202) 314-6305 or by email at Rochelle.McCallister@ntsb.gov by Wednesday, July 19, 2017.

The public may view the meeting via a live or archived webcast by accessing a link under “News & Events” on the NTSB home page at www.ntsb.gov.

Schedule updates, including weather-related cancellations, are also available at www.ntsb.gov.

For More Information Contact: Candi Bing at (202) 314-6403 or by email at bingc@ntsb.gov.

For Media Information Contact: Eric Weiss at (202) 314-6100 or by email at eric.weiss@ntsb.gov for the Highway-Railroad Report or Keith Holloway at (202) 314-6100 or by email at keith.holloway@ntsb.gov for the Safety Study Report.

Dated: Thursday, July 6, 2017.
Candi R. Bing,
Federal Register Liaison Officer.

[FR Doc. 2017-14548 Filed 7-7-17; 11:15 am]

BILLING CODE 7533-01-P